DEPARTMENT OF COMMERCE

National Oceanic and Atmospheric Administration

50 CFR Part 648

[Docket No. 021122284-2323-02; I.D. 122204G]

Atlantic Bluefish Fishery

AGENCY: National Marine Fisheries Service (NMFS), National Oceanic and Atmospheric Administration (NOAA), Commerce.

ACTION: Commercial quota transfer.

SUMMARY: NMFS announces that the commercial quotas for Atlantic bluefish are adjusted to reflect transfers made by several states. By this action, NMFS adjusts the quotas and announces the revised commercial bluefish quota for each state involved.

DATES: Effective December 23, 2004, through December 31, 2004.

FOR FURTHER INFORMATION CONTACT: Don Frei, Fishery Management Specialist, (978) 281-9221, FAX (978) 281-9135, or Don.Frei@noaa.gov.

SUPPLEMENTARY INFORMATION: Regulations governing the bluefish fishery are found at 50 CFR part 648. The regulations require annual specification of a commercial quota that is apportioned among the coastal states from North Carolina through Maine. The process to set the annual commercial quota and the percent allocated to each state is described in § 648.100.

The final rule implementing Amendment 1 to the FMP (65 FR 45844, July 26, 2000) provided a mechanism for bluefish quota to be transferred from one state to another. The FMP allows two or more states, under mutual agreement and with the concurrence of the Administrator, Northeast Region, NMFS (Regional Administrator), to transfer or combine part or all of their annual commercial quota. The Regional Administrator must consider the criteria set forth in § 648.160 (f)(1) in the evaluation of requests for quota transfers or combinations.

The initial total commercial quota for bluefish for the 2004 calendar year was set equal to 10,500,014 lb (4,762,729 kg). The percent allocated to vessels landing bluefish in Maine was 0.6685 percent; Virginia, 11.8795 percent; New York, 10.3851 percent; North Carolina, 33.0608 percent. This resulted in an initial commercial quota for Maine of 70,193 lb (31,839 kg); Virginia, 1,247,348 lb (565,7931 kg); New York, 1,090,436 lb (494,619 kg); and North Carolina, 3,366,384 (1,526,982 kg) (69 FR 47798, August 4, 2004). The 2004 bluefish allocation for Maine was further reduced to 69,536 lb (31,541 kg); Virginia, to 1,235,687 lb (560,498 kg); New York, to 1,080,242 lb (489,990 kg); and North Carolina, to 3,334,913 lb (1,512,691 kg), due to quota allocation to support research projects through a research set-aside.

Virginia has agreed to transfer 300,000 lb (136,077 kg) and Maine has agreed to transfer 69,000 lb (31,297 kg) of their 2004 commercial bluefish quota to North Carolina. Virginia also has agreed to transfer 250,000 lb (113,398 kg) of bluefish quota to New York. The revised quotas for the calendar year 2004 are: Virginia, 685, 687 lb (560,498 kg); Maine, 536 lb (243 kg); New York, 1,330,242 lb (603,387 kg); and North Carolina, 3,703,913 lb (1,680,065 kg).

The Regional Administrator has determined that the criteria set forth in § 648.160(f)(1) have been met. This action does not alter any of the conclusions reached in the environmental assessment for the 2004 specifications for the Atlantic bluefish fishery. This is a routine administrative action that reallocates commercial quota within the scope of previously published environmental analyses.

Classification

This action is taken under 50 CFR part 648 and is exempt from review under Executive Order 12866.

Authority: 16 U.S.C. 1801 et seq.

Dated: December 22, 2004.
Alan D. Risenhoover,
Acting Director, Office of Sustainable Fisheries, National Marine Fisheries Service.

[FR Doc. 04-28513 Filed 12-23-04; 2:20 pm]

BILLING CODE 3510-22-S